DEPARTMENT OF TRANSPORTATION

Federal Motor Carrier Safety Administration

49 CFR Parts 350, 390, 394, 395, and 398

[Docket No. FMCSA-97-2350]

RIN 2126-AA23

Public Hearing on Hours of Service of Drivers; Change in Format

AGENCY: Federal Motor Carrier Safety Administration (FMCSA), DOT.

ACTION: Notice of change in hearing structure.

SUMMARY: By notice of May 5, 2000 (65 FR 26166), the FMCSA announced the scheduling of a public hearing on May 31 and June 1, 2000, for persons to present comments on the agency's proposed revisions to its hours-of-service regulations (65 FR 25540, May 2, 2000). The announcement said the hearing would be subdivided and the FMCSA would seek comments on specific topics during prescribed time periods.

Because many persons have asked to speak on the general subject, rather than specific areas, it has been determined that all speakers may speak on the general subject of the proposed revisions at any time they are scheduled to testify during the hours of 8:30 a.m. to 5 p.m. each day.

DATES: The hearing will be held on May 31 and June 1, 2000.

ADDRESS: The hearing will be at the DOT Headquarters building, Room 2230, 400 Seventh Street, SW., Washington, DC 20590-0001.

FOR FURTHER INFORMATION CONTACT: General Information. To request time to be heard at the Washington hearing and for other general information about the Washington hearing and others scheduled for later throughout the country, contact Mr. Stanley Hamilton, Office of Regulatory Development, (202) 366-0665. Specific Information. For information concerning the rulemaking contact Mr. David Miller, Office of Bus and Truck Standards, (202) 366-1790, or Mr. Charles Medalen, Office of the Chief Counsel, Federal Highway Administration, (202) 366-1354. Office hours are from 7:45 a.m. to 4:15 p.m., et, Monday through Friday, except Federal holidays.

Authority: 49 U.S.C. 322, 31502, and 31136; and 49 CFR 1.73.

Issued on: May 22, 2000.
Brian M. McLaughlin,
Director, Office of Policy Plans and Regulations.

[FR Doc. 00-13284 Filed 5-25-00; 8:45 am]

BILLING CODE 4910-22-P